FEDERAL ELECTION COMMISSION

Sunshine Act Meeting

Previously Announced Date & Time: Wednesday, October 8, 2003 Meeting Closed to the Public. This Meeting Was Rescheduled for Thursday, October 9, 2003, Following the Open Meeting

Date and Time: Wednesday, October 15, 2003 at 10:00 a.m.

Place: 999 E Street, NW., Washington, DC.

Status: This meeting will be closed to the public.

Items to be Discussed: Compliance matters pursuant to 2 U.S.C. 437g.

Audits conducted pursuant to 2 U.S.C. 437g, § 438(b), and Title 26, U.S.C.

Matters concerning participation in civil actions or proceedings or arbitration.

Internal personnel rules and procedures or matters affecting a particular employee.

Date and Time: Thursday, October 16, 2003 at 10:00 a.m.

Place: 999 E Street, NW., Washington, DC (ninth floor).

Status: This meeting will be open to the public.

Items To Be Discussed: Correction and Approval of Minutes.

Draft Advisory Opinion 2003-25: Weinzapfel for Mayor Committee by counsel, Neil P. Reiff.

Notice of Availability—Petition for Rulemaking Filed by America's Community Bankers.

Administrative Matters.

For Further Information Contact: Mr. Ron Harris, Press Officer, Telephone: (202) 694-1220.

Mary W. Dove,
Secretary of the Commission.

[FR Doc. 03-25832 Filed 10-7-03; 2:39 pm]

BILLING CODE 6715-01-M